DEPARTMENT OF THE INTERIOR

Bureau of Safety and Environmental Enforcement

30 CFR Part 250

[Docket ID: BSEE-2023-0014 EEEE500000 256E1700D2 ET1SF0000.EAQ000]

RIN 1014-AA57

Bonding Requirements When Filing an Appeal of a Bureau of Safety and Environmental Enforcement Civil Penalty; Corrections

AGENCY: Bureau of Safety and Environmental Enforcement, Interior.

ACTION: Correcting amendments.

SUMMARY: On November 14, 2024, the Bureau of Safety and Environmental Enforcement (BSEE) published final rules that amended appeal rights. Some of the language from the appeal rights section was inadvertently erased. This document corrects the final regulations.

DATES: Effective on July 23, 2025.

FOR FURTHER INFORMATION CONTACT: Kirk Malstrom at (703) 787-1751 or by email at regs@bsee.gov.

SUPPLEMENTARY INFORMATION: On November 14, 2024, BSEE published final rules in the Federal Register (89 FR 89922) that modified paragraph (b) of § 250.1409. Paragraphs (b)(1) and (2), which were included in the proposed rule (88 FR 86285), were inadvertently and unintentionally left out of the final rule. This document corrects the final regulations to restore those two paragraphs.

List of Subjects in 30 CFR Part 250

Administrative practice and procedure, Continental shelf, Environmental impact statements, Environmental protection, Government contracts, Investigations, Mineral resources, Oil and gas exploration, Penalties, Pipelines, Public lands—mineral resources, Public lands—rights-of-way, Reporting and recordkeeping requirements, Sulfur.

Accordingly, 30 CFR part 250 is corrected by making the following correcting amendments:

PART 250—OIL AND GAS AND SULPHUR OPERATIONS IN THE OUTER CONTINENTAL SHELF

1. The authority citation for part 250 continues to read as follows:

Authority: 30 U.S.C. 1751, 31 U.S.C. 9701, 33 U.S.C. 1321(j)(1)(C), 43 U.S.C. 1334.

2. In § 250.1409, add paragraphs (b)(1) and (2) to read as follows:

§ 250.1409 What are my appeal rights?

* * * * *

(b) * * *

(1) Submit a surety bond in the amount of the penalty to the appropriate Leasing Office in the Region where the penalty was assessed, following instructions that the Reviewing Officer will include in the final decision; or

(2) Notify the appropriate Leasing Office, in the Region where the penalty was assessed, that you want your lease-specific/area-wide bond on file to be used as the bond for the penalty amount.

* * * * *

Adam G. Suess,
Acting Assistant Secretary, Land and Minerals Management.

[FR Doc. 2025-13812 Filed 7-22-25; 8:45 am]

BILLING CODE 4310-VH-P